DEPARTMENT OF COMMERCE

National Oceanic and Atmospheric Administration

50 CFR Parts 216 and 300

RIN 0648-AX63

Trade Monitoring Procedures for Fishery Products; International Trade in Seafood; Permit Requirements for Importers and Exporters; Public Meeting; Correction

AGENCY: National Marine Fisheries Service (NMFS), National Oceanic and Atmospheric Administration (NOAA), Commerce.

ACTION: Notice of public meeting; correction.

SUMMARY: The National Marine Fisheries Service published a document in the Federal Register of February 8, 2016, concerning a public webinar to present details of a previously issued proposed rule (which published December 29, 2015) for electronic filing of seafood trade documents. The document contained an incorrect date for the webinar.

FOR FURTHER INFORMATION CONTACT: Mark Wildman, Office of International Affairs and Seafood Inspection; telephone: (301) 427-8350.

Correction

In the Federal Register of February 8, 2016, in FR Doc. 2016-02418, on page 6489, in the first column, correct the DATES caption to read:

DATES: The meeting will be held Wednesday, February 17, 2016, from 3 p.m. until 4 p.m. eastern standard time. Written comments on the proposed rule (December 29, 2015; 80 FR 81251) must be received by February 29, 2016.

Dated: February 8, 2016.
Jeffrey Weir,
Acting Director, Office for International Affairs and Seafood Inspection, National Marine Fisheries Service.

[FR Doc. 2016-03053 Filed 2-11-16; 8:45 am]

BILLING CODE 3510-22-P